DEPARTMENT OF COMMERCE

National Oceanic and Atmospheric Administration

[I.D. 050802F]

Endangered Species; Permits 1316, 1231 and 1033

AGENCY: National Marine Fisheries Service (NMFS), National Oceanic and Atmospheric Administration (NOAA), Commerce.

ACTION: Issuance of permit modifications no. 1316, 1231 and 1033.

SUMMARY: Notice is hereby given that permit modifications have been issued to take ESA-listed species for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376.

FOR FURTHER INFORMATION CONTACT: Lillian Becker or Ruth Johnson, (301)713-2289).

SUPPLEMENTARY INFORMATION: The requested permits have been issued under the authority of the Endangered Species Act of 1973, as amended (ESA; 16 U.S.C. 1531 et seq.) and the regulations governing the taking, importing, and exporting of endangered and threatened species (50 CFR parts 222-226).

Modifications

Modification no. 2 to permit no. 1033 issued to Mr. David Nelson, Department of the Army, Engineer Research and Developmental Center, Corps of Engineers, Environmental Laboratory, Waterways Experiment Station, 3909 Halls Ferry Road, Vicksburg, Mississippi 39180-6199, to extend the expiration date to December 31, 2002;

Modification no. 1 to permit no. 1316 issued to Dr. Jeff Schmid, The Conservancy of Southwest Florida, 1450 Merrihue Drive, Naples, Fl 34102, to allow attachment of time-depth recorders to the radio and sonic tags already being placed on 20 juvenile Kemp’s ridley sea turtles.

Modification no. 2 to permit no. 1231 issued to Llewellyn M. Ehrhart, Dept of Biological Science, University of Central Florida, P.O. Box 162368, Orlando, FL 32816, to allow attachment of satellite tags to no more than 20 large juvenile green turtles in the Indian River Lagoon and the nearby reef system between McLarty Museum and Ambersand Beach.

Issuance of the permit and modifications, as required by the ESA, was based on a finding that such actions (1) were applied for in good faith, (2) will not operate to the disadvantage of the endangered species which is the subject of this permit, and (3) is consistent with the purposes and policies set forth in section 2 of the ESA.

Dated: May 29, 2002.
Eugene T. Nitta,
Acting Chief, Permits, Conservation and Education Division, Office of Protected Resources, National Marine Fisheries Service.

[FR Doc. 02-14068 Filed 6-4-02; 8:45 am]

BILLING CODE 3510-22-S